DEPARTMENT OF ENERGY

Federal Energy Regulatory Commission

[Docket Nos. EG14-23-000; EG14-24-000]

Notice of Effectiveness of Exempt Wholesale Generator or Foreign Utility Company Status: Maine GenLead, LLC; Evergreen Wind Power II, LLC

Take notice that during the month of March 2014, the status of the above-captioned entities as Exempt Wholesale Generators Companies became effective by operation of the Commission's regulations. 18 CFR 366.7(a).

Dated: April 4, 2014.
Kimberly D. Bose,
Secretary.

[FR Doc. 2014-08054 Filed 4-9-14; 8:45 am]

BILLING CODE 6717-01-P